DEPARTMENT OF THE INTERIOR

Bureau of Land Management

[WY-957-02-1910-BJ]

Plats of Survey; Wyoming

AGENCY: Bureau of Land Management, Interior.

ACTION: Notice of filing of plats of survey, Wyoming.

SUMMARY: The Bureau of Land Management (BLM) is scheduled to file the plat of survey of the lands described below, thirty (30) calender days from the date of this publication in the BLM Wyoming State Office, Cheyenne, Wyoming.

FOR FURTHER INFORMATION CONTACT: Bureau of Land Management, 5353 Yellowstone Road, PO Box 1828, Cheyenne, Wyoming 82003.

SUPPLEMENTARY INFORMATION: These surveys were executed at the request of the Bureau of Indian Affairs and are necessary for the managements of resources. The lands surveyed are:

The plat representing the dependent resurvey of portion of the First Guide Merdian west, through Township 5 N, between Ranges 4 and 5 west, and a portion of the subdivisional lines, and the subdivision of section 24, Township 5 North, Range 5 west, Wind River Meridian, Wyoming, was accepted June 9, 2003.

Copies of the preceding described plat is available to the public.

Dated: June 12, 2003.
John P. Lee,
Chief Cadastral Surveyor, Division of Support Services.

[FR Doc. 03-15329 Filed 6-17-03; 8:45 am]

BILLING CODE 4310-22-P